NATIONAL SCIENCE FOUNDATION

Advisory Committee for Education and Human Resources; Notice of Meeting

In accordance with the Federal Advisory Committee Act (Pub.L. 92-463, as amended), the National Science Foundation announces the following meeting:

Name: Advisory Committee for Education and Human Resources (#1119).

Date/Time: January 7, 2014; 11:00am to 3:00 pm.

Place: National Science Foundation, Room 1235, 4201 Wilson Boulevard, Arlington, VA 22230.

To attend virtually via WebEX video, the web address is: https://nsf.webex.com/nsf/j.php?ED=230238387&RG=1&UID=1577631107&RT=MiMxMQ%3D%3D. Once the host approves your request, you will receive a confirmation email with instructions for joining the meeting. If you need assistance joining the meeting, contact WebEx Technical Support at 1-800-857-8777, and reference WebEx meeting number 749 890 295 at URL: https://nsf.webex.com.

Operated assisted teleconference is available for this meeting. Call 1-866-844-9416 with password EHRAC and you will be connected to the audio portion of the meeting.

To attend the meeting in person, all visitors should contact the Directorate for Education and Human Resources (ehr_ac@nsf.gov) at least 24 hours prior to the teleconference to arrange for a visitor's badge. All visitors must report to the NSF visitor desk located in the lobby at the 9th and N. Stuart Streets entrance on the day of the teleconference to receive a visitor's badge.

Meeting materials and minutes will also be available on the EHR Advisory Committee Web site at http://www.nsf.gov/ehr/advisory.jsp.

Type of Meeting: Open.

Contact Person: Teresa Caravelli, National Science Foundation,

4201 Wilson Boulevard, Arlington, VA 22230 (703) 292-8600 tcaravel@nsf.gov.

Purpose of Meeting: To provide advice with respect to the Foundation's science, technology, engineering, and mathematics (STEM) education and human resources programming.

Agenda

• Remarks by the Committee Chair and NSF Assistant Director for Education and Human Resources (EHR)

• Brief updates on EHR and Committee of Visitor Reports

• Presentation, Discussion, and Committee Endorsement of Subcommittee Reports

○ STEM Learning and Learning Environments Subcommittee

○ STEM Broadening Participation Subcommittee

○ STEM Workforce Development Subcommittee

• Committee discussion of Future AC agenda topics

Dated: December 19, 2013.
Susanne Bolton,
Committee Management Officer.

[FR Doc. 2013-30713 Filed 12-24-13; 8:45 am]

BILLING CODE 7555-01-P